DEPARTMENT OF ENERGY

Federal Energy Regulatory Commission

Combined Notice of Filings

Take notice that the Commission has received the following Natural Gas Pipeline Rate and Refund Report filings:

Filings Instituting Proceedings

Docket Numbers: RP18-1060-000.

Applicants: WBI Energy Transmission, Inc.

Description: § 4(d) Rate Filing: 2018 Reservation of Capacity for Prior Notice Expansions to be effective 9/15/2018.

Filed Date: 8/16/18.

Accession Number: 20180816-5030.

Comments Due: 5 p.m. ET 8/28/18.

Docket Numbers: RP18-1061-000.

Applicants: Gulf South Pipeline Company, LP.

Description: § 4(d) Rate Filing: Non-conforming Agmts for Coastal Bend Project to be effective 2/1/2018.

Filed Date: 8/17/18.

Accession Number: 20180817-5019.

Comments Due: 5 p.m. ET 8/29/18.

Docket Numbers: RP18-1062-000.

Applicants: Kinder Morgan Louisiana Pipeline LLC.

Description: § 4(d) Rate Filing: Revision to Service Agreement to be effective 10/1/2018.

Filed Date: 8/17/18.

Accession Number: 20180817-5051.

Comments Due: 5 p.m. ET 8/29/18.

Docket Numbers: RP18-1063-000.

Applicants: Columbia Gas Transmission, LLC.

Description: Compliance filing WBX Rate Implementation to be effective 9/18/2018.

Filed Date: 8/17/18.

Accession Number: 20180817-5074.

Comments Due: 5 p.m. ET 8/29/18.

Docket Numbers: RP18-1064-000.

Applicants: Columbia Gas Transmission, LLC.

Description: Compliance filing MXP Rate Implementation to be effective 9/18/2018.

Filed Date: 8/17/18.

Accession Number: 20180817-5075.

Comments Due: 5 p.m. ET 8/29/18.

Docket Numbers: RP18-1065-000.

Applicants: Columbia Gas Transmission, LLC.

Description: § 4(d) Rate Filing: TCO WBX West Non-Conforming Agmt to be effective 9/18/2018.

Filed Date: 8/17/18.

Accession Number: 20180817-5081.

Comments Due: 5 p.m. ET 8/29/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 20, 2018.
Nathaniel J. Davis, Sr.,
Deputy Secretary.

[FR Doc. 2018-18318 Filed 8-23-18; 8:45 am]

BILLING CODE 6717-01-P